DEPARTMENT OF DEFENSE

Department of the Army; Corps of Engineers

Intent To Prepare a Draft Environmental Impact Statement for Carpinteria Shoreline, a Feasibility Study in the City of Carpinteria, Santa Barbara County, CA

AGENCY: U.S. Army Corps of Engineers, DoD.

ACTION: Notice of intent.

SUMMARY: The Environmental Impact Statement (EIS) will address environmental impacts from measures being investigated to include beachfill and shoreline stabilization structures to provide storm damage and shoreline protection along the Carpinteria Shoreline in the City of Carpinteria, Santa Barbara County, CA. The U.S. Army Corps of Engineers and the City of Carpinteria, California, will cooperate in conducting this feasibility study. The U.S. Army Corps of Engineers is the lead Federal agency for this study.

The Carpinteria Shoreline feasibility study will be conducted over the next several years following a planning process that will include public involvement during each of the study phases. The investigation will address the shoreline needs associated with erosion of shoreline, coastal storm flooding damages to public and private properties, and the preservation and enhancement of recreational opportunities. The Study may result in a report recommending that Congress authorize a project for implementation by the Corps of Engineers or that measures could be implemented by another agency to address the problems and needs of the study area. While final alternatives have not been determined at this study initiation phase, the earlier Reconnaissance phase of the study and Section 905B Report identified several preliminary measures that could address the problems and needs within the study area. The 905B report concluded that there is the potential for significant storm damages from wave impacts to existing development and facilities along the 1,500 feet reach stretching from Ash Avenue up to Linden Avenue in the City of Carpinteria. A range of conceptual alternatives were identified as having potential for having a Federal interest to address the problems and needs of the study area: (1) Beach Nourishment with periodic renourishment; (2) Artificial Reef Submerged Breakwater; and (3) Seawall. The feasibility study will investigate measures to address the problems and needs and an array of alternatives will be developed and be analyzed for inclusion in the Feasibility Report and EIS.

DATES: A public meeting will be held on 23 September 2003 at 6:30 p.m., at the City Council Chamber, 5775 Carpinteria Avenue, Carpinteria, CA 93013, to discuss the feasibility Study and to obtain input to the scoping of the EIS. Comments concerning the Feasibility Study and Scoping for the EIS may be made at the public meeting or be mailed to the following address by October 27, 2003.

ADDRESSES: District Engineer, U.S. Army Corps of Engineers, Los Angeles District, ATTN: CESPL-PD-RP, P.O. Box 532711, Los Angeles, CA 90052-2325.

FOR FURTHER INFORMATION CONTACT: Mr. Kirk C. Brus, Environmental Coordinator, telephone (213) 452-3876, or Mr. Alex Bantique, Study Manager, telephone (213)-452-3837. The cooperating entity, City of Carpinteria, requests inquiries to Mr. Matthew Roberts, telephone (805) 684-5405, ext. 449 for any additional information.

SUPPLEMENTARY INFORMATION:

1. Authorization

Section 208 of the Flood Control Act of 1965 (Pub. L. 89-298) authorized feasibility studies for Carpinteria Shoreline. The 89th Congress of the United States passed what became Public Law 298. Congressional Energy and Water Development Appropriations Bill H.R. 21-22 (1995) provided funds to initiate the reconnaissance study for Carpinteria Shoreline.

2. Background

The Carpinteria Shoreline is part of the Carpinteria City Beach, bound by the Pacific Ocean to the west, lies within the City of Carpinteria, and is an integral part of the southern coastal area of California in Santa Barbara County. The sandy beach is typically narrow, and backed by public and private developments. The Carpinteria Salt Marsh is located north of the Carpinteria Shoreline on the ocean side of the Pacific Coast Highway (PCH) 1, and is fed by the Franklin and Santa Monica Creeks. The coastal plain in the study area continues has limited groundwater resources, partly due to saltwater intrusion coming from the Pacific Ocean.

The Feasibility Studies to be evaluated by this Draft EIS will analyze: (1) Beach Nourishment concepts for the Carpinteria Shoreline using sand including vegetated sand dunes, and periodic beach nourishment operation and maintenance (O&M) operations to prevent erosion and reduce coastal storm damages to the shoreline; (2) Artificial Reef Submerged Breakwater (ARSB) opportunities located in the ocean parallel to the Carpinteria Shoreline to avoid erosion, and decrease wave and coastal storm flooding damages to public and private properties; and (3) Reinforced Concrete Seawall designs as part of the Carpinteria Shoreline to lessen off shore wave impact and storm damages to public facilities and private residences; (4) Plans for maintaining and enhancing existing recreational facilities for the Carpinteria Shoreline to maintain public access and advert a decline in its recreational value. Prehistoric and historic cultural resources are not known to exist along this stretch of the Carpinteria Shoreline.

3. Proposed Action

No plan of action has yet been identified.

4. Alternatives

Alternatives will be developed as part of the planning process. These would likely include:

a—No Action: No nourishment, improvement or reinforcement of shoreline.

b—Proposed Alternative Plans: Conceptual feasible alternatives to prevent erosion and coastal storm damage within the Carpinteria Shoreline are the following: (1a) Beach Nourishment with two year renourishment period; (1b) Beach Nourishment with five year renourishment; (2a) Artificial Reef Submerged Breakwater (ARSB) with one segment; (2b) ARSB with three segments; and (3) Seawalls.

5. Scoping Process

Participation of all interested Federal, State, and County resource agencies, as well as Native American peoples, groups with environmental interests, and all interested individuals is encouraged. Public involvement will be most beneficial and worthwhile in identifying pertinent environmental issues, offering useful information such as published or unpublished data, direct personal experience or knowledge which inform decision making, assistance in defining the scope of plans which ought to be considered, and recommending suitable mitigation measures warranted by such plans. Those wishing to contribute information, ideas, alternatives for actions, and so forth can furnish these contributions in writing to the points of contacts indicated above, or by attending public scoping opportunities. The scoping period will conclude 45 days after publication of this NOI.

When plans have been devised and alternatives formulated to embody those plans, potential impacts will be evaluated in the DEIS. These assessments will emphasize at least thirteen categories of resources: land use, physical environment, hydrology, biological, esthetics, air quality, noise, transportation, socioeconomic, safety recreation, cultural resources, and hazardous material.

Dated: September 4, 2003.
Richard G. Thompson,
Colonel, U.S. Army, District Engineer.

[FR Doc. 03-23173 Filed 9-10-03; 8:45 am]

BILLING CODE 3710-KF-M